Title 3—

The President

Executive Order 13896 of October 28, 2019

Commission on Law Enforcement and the Administration of Justice

By the authority vested in me as President by the Constitution and the laws of the United States of America, and in order to enhance public safety and support the well-ordered administration of justice, it is hereby ordered as follows:

Section 1. Purpose. Crime, especially violent crime, denies people their unalienable rights to life, liberty, and the pursuit of happiness. Together as a society, we must work to prevent crime from occurring, ensure that those who perpetrate crime face justice, and assist victims in overcoming the effects of crime on their lives. My Administration is focused on reducing crime, and the social and economic problems—including family and neighborhood disintegration—that contribute to criminal behavior. In addition, the continued malign activity of transnational criminal organizations, and the widespread abuse of drugs trafficked by such groups, are challenges that confront our communities and law enforcement in their efforts to keep the American people safe.

Rigorous study of crime, including its causal factors, and current law enforcement practices is essential to assessing our current criminal justice system's merits and opportunities for improvement. Over 85 percent of United States law enforcement personnel are State, local, and tribal officials. The Department of Justice has long respected this traditional balance of law enforcement resources while supporting State, local, and tribal law enforcement efforts with Federal resources. State and local law enforcement benefit from Federal programs and partnerships in the areas of information-sharing, collaborative enforcement operations, training and technical assistance initiatives, and Federal grants. Public safety and proper policing are issues of both national and local significance that continue to require the close cooperation and coordination between the Department of Justice and State, local, and tribal law enforcement. In particular, the Department of Justice has a historically important role in helping to develop, identify, and establish best practices for law enforcement and supporting a range of programs related to the administration of justice. My Administration builds upon that important work every day.

Sec. 2. Establishment. (a) The Attorney General shall establish a Commission on Law Enforcement and the Administration of Justice (Commission), and designate an individual to chair the Commission.

(b) The Attorney General shall determine the composition of and procedures for the functioning of the Commission.

(c) Officers or employees of the Federal Government designated to the Commission shall be full-time, or permanent part-time, officers or employees of the Federal Government. Any such designation shall not affect the civil service status or privileges of the Federal officer or employee.

(d) The Attorney General may, at his discretion, invite elected officers of State, local, and tribal governments (or their designated employees with authority to act on their behalf) to serve on the Commission in their official capacities.

Sec. 3. Function. (a) The Commission shall study issues related to law enforcement and the administration of justice and make recommendations to the Attorney General, who shall submit a report and recommendations to the President on actions that can be taken to prevent, reduce, and control crime, increase respect for the law, and assist victims. The Commission shall undertake, as directed by the Attorney General, a review of relevant research and expertise and make recommendations regarding important current issues facing law enforcement and the criminal justice system such as:

(i) challenges to law enforcement associated with mental illness, homelessness, substance abuse, and other social factors that influence crime and strain criminal justice resources;

(ii) the recruitment, hiring, training, and retention of law enforcement officers, including in rural and tribal communities;

(iii) the potential for public and private initiatives, including in “qualified opportunity zones” as defined in section 13823(a) of the Tax Cuts and Jobs Act of 2017, to reduce crime and improve police-community relations;

(iv) refusals by State and local prosecutors to enforce laws or prosecute categories of crimes;

(v) the physical safety, health, and wellness of law enforcement officers;

(vi) the need to promote public respect for the law and law enforcement officers;

(vii) better integration of education, employment, social services, and public health services into efforts to reduce crime and ease the burden on law enforcement, courts, and corrections systems;

(viii) the use of targeted deterrence approaches to reduce violent crime;

(ix) new and developing methodologies, technologies, and best practices for combatting criminal activity, delinquency, and public disorder;

(x) the effects of technological innovations on law enforcement and the criminal justice system, including the challenges and opportunities presented by such innovations;

(xi) the effectiveness of contemporary law enforcement training methods around critical topics, the direction of next generation training methods, and an understanding of critical training needs;

(xii) the effectiveness of Federal grant programs in establishing best practices for law enforcement and supporting the administration of justice in State, local, and tribal jurisdictions; and

(xiii) other topics related to law enforcement and the control of crime as the Attorney General deems appropriate.

(b) In carrying out its functions under subsection (a) of this section, the Commission may host listening sessions and otherwise solicit input from a diverse array of stakeholders in the area of criminal justice, including State, local, and tribal law enforcement agencies and organizations; government service providers; businesses; nonprofit entities; public health experts; victims rights' organizations; other advocacy and interest groups; reentry experts; academia; and other public and private entities and individuals with relevant experience or expertise.

(c) In developing its recommendations under subsection (a) of this section, the Commission shall seek to recommend only practical and concrete actions that can be taken by Federal, State, local, and tribal law enforcement and other government entities to improve the administration of justice.

(d) Upon the request of the Chair, the heads of executive departments and agencies (agencies) shall, to the extent permitted by law, provide the Commission with reasonable access to the information it needs for purposes of carrying out its functions.

(e) Upon the request of the Attorney General, the heads of agencies may detail personnel to the Commission to assist in carrying out its functions, and shall endeavor to provide such personnel and other assistance to the Commission to the extent practicable, consistent with applicable law and within existing appropriations, through appropriate interagency agreements, including agreements under the Economy Act. Consistent with applicable law and within existing appropriations, the Attorney General shall use the resources and personnel of the Department of Justice in support of the Commission and its activities.

Sec. 4. Reports. The Commission shall submit a report and recommendations to the Attorney General no later than 1 year from the date of this order. The Attorney General, following consultation with the Director of the Office of Management and Budget, shall submit a report and recommendations to the President no later than 60 days thereafter.

Sec. 5. Termination. The Commission shall terminate no later than 90 days after submitting its report and recommendations to the Attorney General, unless extended by the President.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 28, 2019.

[FR Doc. 2019-24040

Filed 10-31-19; 8:45 am]

Billing code 3295-F0-P